DEPARTMENT OF THE INTERIOR

National Park Service

Draft Environmental Impact Statement/General Management Plan Channel Islands National Park, CA; Notice of Intent

SUMMARY: In accordance with section 102(c) of the National Environmental Policy Act of 1969, the National Park Service is preparing a general management plan (GMP) and an environmental impact statement (EIS) for Channel Islands National Park. The GMP will establish the overall direction for the park, setting broad management goals for managing the area over the next 15 to 20 years. The GMP will prescribe desired resource conditions and visitor experiences that are to be achieved and maintained throughout the park. Based on the desired conditions, the GMP will outline the kinds of resource management activities, visitor activities, and developments that would be appropriate in the park. Among the topics that will be addressed are ecosystem management, preservation of natural and cultural resources, landscape restoration, island access, road and trail systems, facility and staff needs, research needs and opportunities, and education and interpretive efforts. In cooperation with local, state, tribal, and other federal agencies, attention will also be given to cooperative management of resources outside the boundaries that affect the integrity of Channel Islands National Park.

Some of the issues the GMP/EIS may address are: levels and appropriateness of access to and within the park (including the extent and character of the existing road systems), infrastructure needs (including administration and support functions), conflicts between cultural and natural resource management, management of marine resources across jurisdictional boundaries, developments on floodplains, and uses of historic structures.

A range of reasonable alternatives for managing the park, including a no-action and preferred alternative, will be developed through the planning process and included in the EIS. The EIS will evaluate the potential environmental impacts of the alternatives. An environmentally preferred alternative will be identified, and any potential impairments to park values will also be disclosed.

Comments: As the first phase of the conservation planning and EIS process, the National Park Service is beginning to scope the issues to be addressed in the GMP/EIS. All interested persons, organizations, and agencies are encouraged to submit comments and suggestions regarding the issues or concerns the GMP/EIS should address, including the suitable range of alternatives and appropriate mitigating measures, and the nature and extent of potential environmental impacts. Written comments may be mailed to the address below, and comments may also be submitted via email to channel_islands_gmp@nps.gov. Please submit Internet comments as a text file and avoid the use of special characters and any form of encryption. Be sure to include name and return postal mailing address in any Internet message. All comments must be postmarked or transmitted not later than December 31, 2001.

In addition, three public scoping sessions will be held at Ventura, Santa Barbara, and Los Angeles during the week of November 12, 2001, affording an additional early comment opportunity. Locations, dates, and times of these meetings will be provided in local and regional newspapers, a scoping newsletter to be mailed in late October 2001, and via the Internet at www.nps.gov/chis. A third opportunity to comment will be provided in response to the scoping newsletter. The newsletter will describe the planning process and schedule, note the park's purposes and significance, and outline issues identified to date.

All comments received will become part of the public record and copies of comments, including any names and home addresses of respondents, may be released for public inspection. Individual respondents may request that their home addresses be withheld from the public record, which will be honored to the extent allowable by law. Requests to withhold names and/or addresses must be stated prominently at the beginning of the comments. Anonymous comments will not be considered. Submissions from organizations or businesses, and from individuals identifying themselves as representatives or officials of organizations or businesses, will be made available for public inspection in their entirety.

ADDRESSES: Written comments, general park information requests, or requests to be added to the project mailing list should be directed to: Superintendent, Channel Islands National Park, 1901 Spinnaker Drive, Ventura, CA 93001-4354, telephone (805) 658-5777.

Decision Process: The subsequent availability of the draft GMP/EIS will be announced by Federal Register notice and in local and regional news media. A draft GMP/EIS is anticipated to be completed and available for public review during the summer of 2003. The final GMP/EIS is expected to be completed approximately one year later. A record of decision will be published in the Federal Register no sooner than thirty days after distribution of the final GMP/EIS. The responsibility for approving the GMP/EIS has been delegated to the National Park Service, and the responsible official is John J. Reynolds, Regional Director, Pacific West Region. The official responsible subsequently for implementation will be the Superintendent, Channel Islands National Park.

FOR FURTHER INFORMATION CONTACT: Superintendent, Channel Islands National Park, 1901 Spinnaker Drive, Ventura, CA 93001-4354; telephone (805) 658-5730. General information about Channel Islands National Park is available on the Internet at http://www.nps.gov/chis.

Dated: September 13, 2001.
Patricia L. Neubacher,
Acting Regional Director, Pacific West.

[FR Doc. 01-27695 Filed 11-7-01; 8:45 am]

BILLING CODE 4310-70-P